DEPARTMENT OF JUSTICE

Notice of Lodging of Consent Decree Under the Residential Lead-Based Paint Hazard Reduction Act

Notice is hereby given that on April 19, 2010 a proposed Consent Decree in United States v. Kogan Realty Enterprises, LLC, Civil Action No. 1:10-cv-249 was lodged with the United States District Court for the Southern District of Ohio.

The consent decree settles claims against the owner of 128 housing units in twenty-two separate properties located in or near Cincinnati, Ohio. The claims were brought on behalf of the Environmental Protection Agency (“U.S. EPA”) and the Department of Housing and Urban Development (“HUD”) under the Residential Lead-Based Paint Hazard Reduction Act, 42 U.S.C. 4851 et seq. (“Lead Hazard Reduction Act”). The United States alleged in the complaint that the Defendant failed to make one or more of the disclosures or to complete one or more of the disclosure activities required by the Lead Hazard Reduction Act.

Under the Consent Decree, the Defendant will certify that it is complying with residential lead paint notification requirements. The Defendant will submit a plan for window replacement work and will replace all windows known to or believed to contain lead-based paint in all residential properties owned by Defendant that are not certified lead-based paint free. In addition, Defendant will abate lead-based paint hazards on friction and impact surfaces, stabilize other lead-based paint hazards, and pay an administrative penalty of $5,000.

The Department of Justice will receive for a period of thirty (30) days from the date of this publication comments relating to the Proposed Consent Decree. Comments should be addressed to the Assistant Attorney General, Environment and Natural Resources Division, and either e-mailed to pubcomment-ees.enrd@usdoj.gov or mailed to U.S. Department of Justice, P.O. Box 7611, Washington, DC 20044-7611, and should refer to United States v. Kogan Realty Enterprises, LLC, D.J. Ref. #90-5-1-1-09574.

The Proposed Consent Decree may be examined at the Department of Housing and Urban Development, Office of General Counsel, 451 7th St. NW, Room 9262, Washington, DC 20410; at the office of the United States Attorney for the Southern District of Ohio, 303 Marconi Blvd., Suite 200, Columbus, Ohio 43215 (Attn. Assistant United States Attorney Andrew M. Malek); and at U.S. EPA Region 5, 77 W. Jackson Blvd., Chicago, IL 60604. During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.75 (25 cents per page reproduction cost) payable to the U.S. Treasury or, if by e-mail or fax, forward a check in that amount to the Consent Decree Library at the stated address.

Maureen Katz,
Assistant Chief, Environmental Enforcement Section, Environment and Natural Resources Division.

[FR Doc. 2010-9524 Filed 4-23-10; 8:45 am]

BILLING CODE 4410-15-P